DEPARTMENT OF THE TREASURY

Internal Revenue Service

Open Meeting of The Florida Citizen Advocacy Panel

AGENCY: Internal Revenue Service (IRS), Treasury.

ACTION: Notice.

SUMMARY: An open meeting of the Florida Citizen Advocacy Panel will be held in Jacksonville, Florida.

DATES: The meeting will be held Friday, April 27, 2001 and Saturday, April 28, 2001.

FOR FURTHER INFORMATION CONTACT: Nancy Ferree at 1-888-912-1227, or 954-423-7973.

SUPPLEMENTARY INFORMATION: Notice is hereby given pursuant to Section 10(a)(2) of the Federal Advisory Committee Act, 5 U.S.C. App. (1988) that an open meeting of the Citizen Advocacy Panel will be held Friday, April 27, 2001 from 6 p.m. to 9 p.m. and Saturday, April 28, 2001 from 9 a.m. to 12 p.m., at The Hilton Jacksonville & Towers, 1201 Riverplace Boulevard, Jacksonville, FL 32207. The public is invited to make oral comments. Individual comments will be limited to 10 minutes. If you would like to have the CAP consider a written statement, please call 1-888-912-1227 or 954-423-7973, or write Nancy Ferree, CAP Office, 7771 W. Oakland Park Blvd. Rm. 225, Sunrise, FL 33351, or e-mail firstcapsfl@mindspring.com. Due to limited conference space, notification of intent to attend the meeting must be made with Nancy Ferree. Ms. Ferree can be reached at 1-888-912-1227 or 954-423-7973, or e-mail firstcapsfl@mindspring.com.

The agenda will include the following: various IRS issue updates and reports by the CAP sub-groups.

Note: Last minute changes to the agenda are possible and could prevent effective advance notice.

Dated: March 30, 2001.
Cathy VanHorn,
Director, Citizen Advocacy Panel (CAP) Communication and Liaison.

[FR Doc. 01-8428 Filed 4-4-01; 8:45 am]

BILLING CODE 4830-01-P